COMMISSION ON CIVIL RIGHTS

Notice of Public Meetings of the Montana Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act, that the Montana Advisory Committee (Committee) to the U.S. Commission on Civil Rights will hold a public business meeting every second Thursday of the month (August 2025 through December 2025) via Zoom at 3:00 p.m. MT. The purpose of these meetings is to discuss civil rights concerns in the state.

DATES: Thursday, August 14, 2025, from 3:00 p.m. to 4:30 p.m. Mountain Time; Thursday, September 11, 2025, from 3:00 p.m. to 4:30 p.m. Mountain Time; Thursday, October 9, 2025, from 3:00 p.m. to 4:30 p.m. Mountain Time; Thursday, November 13, 2025, from 3:00 p.m. to 4:30 p.m. Mountain Time; Thursday, December 11, 2025, from 3:00 p.m. to 4:30 p.m. Mountain Time.

ADDRESSES: The meetings will be held via Zoom Webinar. Members of the public only need to register once.

Registration Link (Audio/Visual) for All Meetings: https://www.zoomgov.com/webinar/register/WN_SWk0SO7gTFSyPCGZ87Ls1w.

Join by Phone (Audio Only) for All Meetings: (833) 435-1820 USA Toll-Free; Meeting ID: 160 910 9573.

FOR FURTHER INFORMATION CONTACT: Ana Victoria Fortes, Designated Federal Officer, at afortes@usccr.gov or (202) 681-0857.

SUPPLEMENTARY INFORMATION: This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any charges incurred. Callers will incur no charge for calls initiated over land-line connections to the toll-free telephone number. Closed captioning will be available for individuals who are deaf, hard of hearing, or who have certain cognitive or learning impairments. To request additional accommodations, please email Liliana Schiller, Support Services Specialist, at lschiller@usccr.gov at least 10 business days prior to the meeting.

Members of the public are entitled to submit written comments; the comments must be received in the regional office within 30 days following the meeting. Written comments may be emailed to Ana Victoria Fortes at afortes@usccr.gov. Persons who desire additional information may contact the Regional Programs Coordination Unit at (202) 681-0857.

Records generated from this meeting may be inspected and reproduced at the Regional Programs Coordination Unit Office, as they become available, both before and after the meeting. Records of the meetings will be available via this file sharing website. Persons interested in the work of this Committee are directed to the Commission's website, http://www.usccr.gov, or may contact the Regional Programs Coordination Unit at the above phone number.

Agenda

I. Welcome & Roll Call

II. Discussion: Civil Rights in Montana

III. Public Comment

IV. Next Steps

V. Adjournment

Dated: June 27, 2025.
David Mussatt,
Supervisory Chief, Regional Programs Unit.

[FR Doc. 2025-12282 Filed 6-30-25; 8:45 am]

BILLING CODE 6335-01-P